DEPARTMENT OF AGRICULTURE

Food and Nutrition Service

7 CFR Part 292

[Docket No. FNS-2025-0023]

RIN 0584-AF20

Summer Electronic Benefits Transfer for Children: Rescission of Obsolete Regulatory Provisions

AGENCY: Food and Nutrition Service (FNS), Department of Agriculture.

ACTION: Final rule.

SUMMARY: This rule eliminates two time-limited state options in the Summer Electronic Benefits Transfer for Children (Summer EBT) program regulations that are now obsolete.

DATES: This rule is effective June 11, 2025.

FOR FURTHER INFORMATION CONTACT: James C. Miller, Administrator, Food and Nutrition Service, at (703) 305-2060, or James.Miller@usda.gov with a subject line of “RIN 0584-AF20”.

SUPPLEMENTARY INFORMATION:

Background

The President's Executive Order 14219 of February 19, 2025, Ensuring Lawful Governance and Implementing the President's “Department of Government Efficiency” Deregulatory Initiative, 90 FR 10583, and subsequent implementing memorandum directed all agency heads to review regulations within their purview and rescind those that are, among other things, unlawful or unnecessary.

FNS has undertaken such a review and has identified the following obsolete, unnecessary, and outdated provisions in 7 CFR part 292:

• Application Requirements: The regulations at 7 CFR 292.13(q) authorized Summer EBT application flexibility only for 2024.

• Verification Requirements: The regulations at 7 CFR 292.14(g) authorized Summer EBT income verification flexibility only for 2024.

This final rule removes these obsolete provisions. The Agency has found good cause under 5 U.S.C. 553(b)(4)(B) that notice-and-comment rulemaking is unnecessary to take these actions because the provisions being rescinded are obsolete.

Procedural Matters

Executive Orders 12866 and 13563

Under Executive Order 12866, as amended by Executive Orders 14215 and 13563, agencies must assess all costs and benefits of available regulatory alternatives and, if regulation is necessary, select regulatory approaches that maximize net benefits. The Office of Management and Budget's (OMB) Office of Information and Regulatory Affairs has determined that this regulatory action is not significant and, therefore, is not subject to OMB review.

Regulatory Flexibility Act

Under the Regulatory Flexibility Act (5 U.S.C. 601-612) (as amended by the Small Business Regulatory Enforcement Fairness Act of 1996; 5 U.S.C. 601 et seq.), agencies must prepare and make available for public comment a regulatory flexibility analysis that describes the effect of the rule on small entities (i.e., small businesses, small organizations, and small government jurisdictions). FNS has concluded and hereby certifies that this rule will not have a significant economic impact on a substantial number of small entities.

Unfunded Mandates Reform Act

This rule does not contain Federal mandates (under the regulatory provisions of Title II of the Unfunded Mandates Reform Act (UMRA)) for State, local, and Tribal governments, or the private sector of $100 million or more in any one year. Thus, the rule is not subject to the requirements of sections 202 and 205 of the UMRA.

Executive Order 13175

Executive Order 13175 requires Federal agencies to consult and coordinate with Tribes on a government-to-government basis on policies that have Tribal implications, including regulations, legislative comments or proposed legislation, and other policy statements or actions that have substantial direct effects on one or more Indian Tribes, on the relationship between the Federal Government and Indian Tribes, or on the distribution of power and responsibilities between the Federal Government and Indian Tribes. FNS has determined that this rule would not have Tribal implications that require consultation under Executive Order 13175.

Paperwork Reduction Act

In accordance with the Paperwork Reduction Act of 1995 (44 U.S.C. 3501-3520), an agency may not conduct or sponsor, and a person is not required to respond to, a collection of information, unless the collection displays a currently valid OMB control number. This rule does not impose any additional information collection requirements.

E-Government Act Compliance

The Department is committed to complying with the E-Government Act, 2002 to promote the use of the internet and other information technologies to provide increased opportunities for citizen access to Government information and services, and for other purposes.

Executive Order 13132; Federalism Summary Impact Statement

The rule is deregulatory and has little effect on States and local governments, so FNS anticipates that this rule will not have implications for federalism. Therefore, under section 6(b) of the Executive order, a federalism summary is not required.

List of Subjects in 7 CFR Part 292

Administrative practice and procedure, Agriculture, Food assistance programs, Grant programs—education, Grant programs—health, Infants and children, Nutrition, Public assistance programs, Reporting and recordkeeping requirements, School breakfast and lunch programs, Supplemental assistance programs.

Accordingly, FNS amends 7 CFR part 292 as follows:

PART 292—SUMMER ELECTRONIC BENEFITS TRANSFER PROGRAM

1. The authority citation for part 292 continues to read as follows:

Authority: 42 U.S.C. 1762.

§ 292.13 [Amended]

2. Amend § 292.13 by removing paragraph (q).

§ 292.13 [Amended]

3. Amend § 292.14 by removing and reserving paragraph (g).

James C. Miller,
Administrator.

[FR Doc. 2025-10623 Filed 6-10-25; 8:45 am]

BILLING CODE P